UNITED STATES INSTITUTE OF PEACE

Notice of Meeting

AGENCY: United States Institute of Peace.

DATES: Friday, January 22, 2016 (10:00 a.m.-2:00 p.m.).

ADDRESSES: 2301 Constitution Avenue NW., Washington, DC 20037.

SUPPLEMENTARY INFORMATION:

Status: Open Session—Portions may be closed pursuant to subsection (c) of section 552(b) of title 5, United States Code, as provided in subsection 1706(h)(3) of the United States Institute of Peace Act, Public Law 98-525.

Agenda: January 22, 2016 Board Meeting; Approval of Minutes of the One Hundred Fifty-Seventh Meeting (October 23, 2015) of the Board of Directors; Chairman's Report; Vice Chairman's Report; President's Report; Reports from USIP Board Committees; USIP Preventing Electoral Violence Presentation; USIP Myanmar Team Presentation.

Contact: Nick Rogacki, Special Assistant to the President, Email: nrogacki@usip.org.

Dated: January 6, 2016.
Nicholas Rogacki,
Special Assistant to the President.

[FR Doc. 2016-00407 Filed 1-11-16; 8:45 am]

BILLING CODE 6820-AR-P